NATIONAL SCIENCE FOUNDATION

Sunshine Act Meetings; National Science Board

The National Science Board (NSB), pursuant to National Science Foundation (NSF) regulations (45 CFR part 614), the National Science Foundation Act, as amended, (42 U.S.C. 1862n-5), and the Government in the Sunshine Act (5 U.S.C. 552b), hereby gives notice of the scheduling of meetings for the transaction of NSB business as follows:

Times and Dates: August 15, 2017 from 8:00 a.m. to 5:00 p.m., and August 16, 2017 from 8:30 a.m. to 2:30 p.m. EDT.

Place: These meetings will be held at the NSF headquarters, 4201 Wilson Blvd., Arlington, VA 22230. Meetings are held in Room 1235. All visitors must contact the Board Office (call 703-292-7000 or send an email to nationalsciencebrd@nsf.gov) at least 24 hours prior to the meeting and provide your name and organizational affiliation. Visitors must report to the NSF visitor's desk in the lobby of the 9th and N. Stuart Street entrance to receive a visitor's badge. Due to recent security changes, visitors should allot some extra time for the entrance process.

Status: Some of these meetings will be open to the public. Others will be closed to the public. See full description below.

Supplemental Information: Public meetings and public portions of meetings held in Room 1235 will be webcast. To view these meetings, go to: http://www.tvworldwide.com/events/nsf/170815 and follow the instructions. The public may listen to public committee meetings held in Room 1295. Contact the Board Office (call 703-292-7000 or send an email to nationalsciencebrd@nsf.gov) at least 24 hours prior to the meeting for dial-in information.

Please refer to the NSB Web site for additional information. Meeting information and schedule updates (time, place, subject matter, and status of meeting) may be found at http://www.nsf.gov/nsb/meetings/notices.jsp.

The NSB will continue its program to provide some flexibility around meeting times. After the first meeting of each day, actual meeting start and end times will be allowed to vary by no more than 15 minutes in either direction. As an example, if a 10:00 meeting finishes at 10:45, the meeting scheduled to begin at 11:00 may begin at 10:45 instead. Similarly, the 10:00 meeting may be allowed to run over by as much as 15 minutes if the Chair decides the extra time is warranted. The next meeting would start no later than 11:15.

Arrive at the NSB boardroom or check the webcast 15 minutes before the scheduled start time of the meeting you wish to observe. Members of the public are invited to provide feedback on this program. Contact: nationalsciencebrd@nsf.gov.

Meetings That are Open to the Public:

August 15, 2017

8:00-8:30 a.m. Plenary NSB introduction

8:30-10:00 a.m. Committee on Strategy (CS)

10:15-11:45 a.m. Committee on Oversight (CO)

1:00-1:40 p.m. Committee on External Engagement (EE)

August 16, 2017

8:30-9:15 a.m. Committee on Awards and Facilities (A&F)

9:15-10:15 a.m. Committee on National Science and Engineering Policy (SEP)

1:00-2:30 p.m. Plenary

Meetings That are Closed to the Public:

August 15, 2017

1:40-1:45 (CO)

1:45-3:00 p.m. (CS)

3:15-5:00 p.m. (A&F)

August 16, 2017

10:30-11:00 a.m. Plenary

11:00-11:30 a.m. Plenary Executive

Matters To Be Considered:

Tuesday, August 15, 2017

Plenary Board meeting

Open session: 8:00-8:30 a.m.

• NSB Chair's Opening Remarks

• Overview of Major Issues for Meeting

• NSF Director's Remarks

• Summary of Meetings on Capitol Hill

Committee on Strategy (CS)

Open session: 8:30-10:00 a.m.

• Committee Chair's Opening Remarks

• Approval of Prior Minutes

• FY 2018 Budget Request Update

• National Academies of Science, Engineering, and Medicine (NASEM) Studies Briefing

• The Value of SBE to National Priorities

• A New Vision of Center-Based Engineering Research

• Fostering Integrity in Research

• Facilities and Administrative Costs Discussion

Committee on Oversight (CO)

Open session: 10:15-11:45 a.m.

• Committee Chair's Opening Remarks

• Approval of Prior Minutes

• NSF FY 2016 Annual Report on Merit Review

• Resolution

• Inspector General's Update

• OIG Review of Institutions' Implementation of NSF's Responsible Conduct of Research Requirements

• Chief Financial Officer's Update

Committee on External Engagement (EE)

Open session: 1:00-1:40 p.m.

• Committee Chair's Opening Remarks

• Approval of Prior Minutes

• Briefing on Board Member Meetings with Members of Congress

• Update on Planning for Listening Sessions During Board's October LIGO Livingston, Louisiana Site Visit

• Update on NSB Members to Host a Member of Congress in Home District

• Discussion of Guidance for Public Statements by NSB Members

Committee on Oversight (CO)

Closed session: 1:40-1:45 p.m.

• Committee Chair's Opening Remarks

• Office of the Inspector General FY 2019 OMB Budget Submission

Committee on Strategy (CS)

Closed session: 1:45-3:00 p.m.

• Committee Chair's Opening Remarks

• Approval of Prior Minutes

• Presentation of NSBO FY 2019 OMB Budget Submission

• Agency Reform and Strategic Plan

• Action Item: FY 2019 OMB Budget Submission

Committee on Awards and Facilities (A&F)

Closed Session: 3:15-5:00 p.m.

• Committee Chair's Opening Remarks

• Approval of Prior Minutes

• Action Item: National Ecological Observatory Network (NEON) Supplemental Proposal for Initial Operations and Maintenance

• Action Item: National High Magnetic Field Laboratory (NHMFL) Operations

• Status of Astronomy Facilities Divestment Plan

• Information Item: Ocean Observatories Initiative (OOI) Operations and Management

Matters To Be Discussed:

Wednesday, August 16, 2017

Committee on Awards and Facilities (A&F)

Open session: 8:30-9:15 a.m.

• Committee Chair's Opening Remarks

• Approval of Prior Minutes

• CY 2017 Schedule of Planned Action and Information Items

• No Cost Overrun Policy Brief Report

• Oversight for Major Research Facilities

Committee on National Science and Engineering Policy (SEP)

Open session: 9:15-10:15 a.m.

• Committee Chair's Opening Remarks

• Approval of Prior Minutes

• Discussion of S&E Indicators 2018 Draft “Orange Book” Feedback

• Update on Indicators 2018 Draft “Digest” and “Overview of the State of the U.S. S&E Enterprise in a Global Context”

• Discussion on Policy Companion Statements/Briefs to Indicators 2018

Plenary Board

Closed session: 10:30-11:00 a.m.

• Board Chair's Opening Remarks

• Director's Remarks

• Approval of Prior Minutes

• Closed Committee Reports

• Vote: National High Magnetic Field Laboratory (NHMFL) Operations

• Vote: National Ecological Observatory Network (NEON) Proposal for Initial Operations and Maintenance

• Vote: NSF FY 2019 OMB Budget Submission

Plenary Board (Executive)

Closed session: 11:00-11:30 a.m.

• Board Chair's Opening Remarks

• Approval of Prior Minutes

• Director's Remarks

• Award Involving an NSB Member

Plenary Board

Open Session: 1:00-2:30 p.m.

• Board Chair's Opening Remarks

• NSF Director's Remarks

• Approval of Prior Minutes

• Open Committee Reports

• Vote: Merit Review Resolution

• Approval of CY 2018 Meeting Schedule

• Discussion of Skilled Technical Workforce

• Board Chair's Closing Remarks

Meeting Adjourns: 2:30 p.m.

Contact Persons for More Information: The NSB Office contact is Brad Gutierrez, bgutierr@nsf.gov, 703-292-7000. The Public Affairs contact is Nadine Lymn, nlymn@nsf.gov, 703-292-2490.

Chris Blair,
Executive Assistant, National Science Board Office.

[FR Doc. 2017-17031 Filed 8-8-17; 4:15 pm]

BILLING CODE 7555-01-P